DEPARTMENT OF ENERGY

Federal Energy Regulatory Commission

[Docket No. RP04-173-001]

Dominion Transmission, Inc.; Notice of Compliance Filing

March 30, 2004.

Take notice that on March 25, 2004, Dominion Transmission, Inc. (DTI) tendered for filing as part of its FERC Gas Tariff, Original Volume No. 1, Substitute First Revised Sheet No. 1159, with an effective date of March 1, 2004.

DTI states that the purpose of this filing is to comply with the Commission's Letter Order dated March 19, 2004, which approved the removal of the five-year term matching cap from its right-of-first refusal tariff provisions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-753 Filed 4-5-04; 8:45 am]

BILLING CODE 6717-01-P